DEPARTMENT OF TRANSPORTATION

Federal Aviation Administration

14 CFR Part 39

[Docket No. FAA-2015-1987; Directorate Identifier 2014-NM-240-AD]

RIN 2120-AA64

Airworthiness Directives; Bombardier, Inc. Airplanes

AGENCY: Federal Aviation Administration (FAA), DOT.

ACTION: Notice of proposed rulemaking (NPRM).

SUMMARY: We propose to adopt a new airworthiness directive (AD) for certain Bombardier, Inc. Model CL-600-2C10 (Regional Jet Series 700, 701, & 702) airplanes. This proposed AD was prompted by reports of cracked forward door members of the inboard main landing gear (MLG) doors. This proposed AD would require repetitive inspections of the inboard MLG doors, repairs if necessary, and replacement of the inboard MLG doors. This proposed AD also would provide optional terminating action for the door replacement. We are proposing this AD to prevent loss of an MLG door during flight, which could result in damage to the airplane.

DATES: We must receive comments on this proposed AD by August 14, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-1987; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Aziz Ahmed, Aerospace Engineer, ANE-171, FAA, New York Aircraft Certification Office, 1600 Stewart Avenue, Suite 410, Westbury, NY 11590; phone 516-228-7329; fax 516-794-5531.

SUPPLEMENTARY INFORMATION:

Comments Invited

We invite you to send any written relevant data, views, or arguments about this proposed AD. Send your comments to an address listed under the ADDRESSES section. Include “Docket No. FAA-2015-1987; Directorate Identifier 2014-NM-240-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation (TCCA), which is the aviation authority for Canada, has issued Canadian Airworthiness Directive CF-2014-42, dated December 12, 2014 (referred to after this as the Mandatory Continuing Airworthiness Information, or “the MCAI”), to correct an unsafe condition for certain Bombardier, Inc. Model CL-600-2C10 (Regional Jet Series 700, 701, & 702) airplanes. The MCAI states:

Cases of inboard MLG doors with cracked door forward members were found. A cracked inboard MLG door forward member could result in door departure from the aeroplane. Loss of an MLG door during flight could result in damage to the aeroplane and injury to persons on the ground.

This [Canadian] AD mandates the repetitive inspection [and corrective actions if necessary] and replacement of the inboard MLG doors.

The repetitive inspection is a detailed inspection for damage (including deformation, pulled or missing fasteners on the inner and outer skin, cracks, and deformation) on the forward member of the inboard MLG door inner skins, outer skin, and the forward member.

Corrective actions include repairing, removing, or replacing the inboard MLG door. You may examine the MCAI in the AD docket on the Internet at http://www.regulations.gov by searching for and locating Docket No. FAA-2015-1987.

Related Service Information Under 1 CFR Part 51

Bombardier has issued the following service information.

• Bombardier Modification Summary Package IS670528200033, Revision A-2, dated October 11, 2005. This service information describes procedures for enlarging the forward and aft hinge cutouts of the MLG inboard and outboard doors.

• Bombardier Service Bulletin 670BA-32-040, Revision D, dated July 2, 2014, including Appendix A, Revision A, dated July 2, 2014, and Appendix B, Revision B, dated July 2, 2014. This service information describes procedures for increasing the clearances between the MLG fairing and the MLG doors.

• Bombardier Service Bulletin 670BA-32-040, Revision E, dated November 13, 2014, including Appendix A, Revision A, dated July 2, 2014, and Appendix B, Revision B, dated July 2, 2014. This service information describes procedures for increasing the clearances between the MLG fairing and the MLG doors, and for enlarging the forward and aft hinge cutouts of the MLG inboard and outboard doors.

• Bombardier Service Bulletin 670BA-32-042, Revision A, dated July 2, 2014, including Appendices A and B, both dated November 5, 2013. This service information describes procedures for inspecting and repairing the inboard MLG door inner skins, outer skin, and the forward member.

• Bombardier Service Bulletin 670BA-32-043, Revision A, dated November 13, 2014. This service information describes procedures for replacing the inboard MLG doors.

• Bombardier Service Bulletin 670BA-32-043, dated July 2, 2014. This service information describes procedures for replacing the inboard MLG doors.

This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Related Rulemaking

AD 2010-23-19, Amendment 39-16508 (75 FR 68695, November 9, 2010), requires repetitive inspections for damage of the MLG inboard doors and fairing, and corrective actions if necessary. AD 2010-23-19 applies to Model CL-600-2C10 (Regional Jet Series 700, 701, & 702) airplanes having serial numbers (S/Ns) 10003 and subsequent; and Model CL-600-2D15 (Regional Jet Series 705) and CL-600-2D24 (Regional Jet Series 900) airplanes having S/Ns 15001 and subsequent.

Costs of Compliance

We estimate that this proposed AD affects 269 airplanes of U.S. registry.

We estimate that it would take about 16 work-hours per product to comply with the basic requirements of this proposed AD. The average labor rate is $85 per work hour. Required parts would cost about $31,000 per product. Based on these figures, we estimate the cost of this proposed AD on U.S. operators to be $8,704,840, or $32,360 per product.

In addition, we estimate that any necessary follow-on actions would take up to 44 work-hours and require parts costing up to $31,000, for a cost of up to $34,740 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc.: Docket No. FAA-2015-1987; Directorate Identifier 2014-NM-240-AD.

(a) Comments Due Date

We must receive comments by August 14, 2015.

(b) Affected ADs

None.

(c) Applicability

This AD applies to Bombardier, Inc. Model CL-600-2C10 (Regional Jet Series 700, 701, & 702) airplanes, certificated in any category, serial numbers 10002 and subsequent, as identified in Bombardier Service Bulletin 670BA-32-042, Revision A, dated July 2, 2014.

(d) Subject

Air Transport Association (ATA) of America Code 32, Landing gear.

(e) Reason

This AD was prompted by reports of cracked forward door members of the inboard main landing gear (MLG) doors. We are issuing this AD to prevent loss of an MLG door during flight, which could result in damage to the airplane.

(f) Compliance

Comply with this AD within the compliance times specified, unless already done.

(g) Repetitive Inspections

Within 660 flight hours or 12 months after the effective date of this AD, whichever occurs first: Do a detailed inspection for damage (including deformation, pulled or missing fasteners on the inner and outer skin, cracks, and deformation) on the outer skin, and the forward member, in accordance with the Accomplishment Instructions of Bombardier Service Bulletin 670BA-32-042, Revision A, dated July 2, 2014, including Appendices A and B, both dated November 5, 2013. Repeat the inspection thereafter at intervals not to exceed 660 flight hours or 12 months, whichever occurs first.

(h) Detailed Inspection Definition

For the purposes of this AD, a detailed inspection is an intensive examination of a specific item, installation, or assembly to detect damage, failure, or irregularity. Available lighting is normally supplemented with a direct source of good lighting at an intensity deemed appropriate. Inspection aids such as mirror, magnifying lenses, etc., may be necessary. Surface cleaning and elaborate procedures may be required.

(i) Corrective Actions

(1) If any damage is found on the inner or outer skin of the inboard MLG door during any inspection required by paragraph (g) of this AD: Before further flight, do the actions specified in paragraph (i)(1)(i), (i)(1)(ii), or (i)(1)(iii) of this AD.

(i) Remove the damaged inboard MLG door, in accordance with the Accomplishment Instructions of Bombardier Service Bulletin 670BA-32-042, Revision A, dated July 2, 2014, including Appendices A and B, both dated November 5, 2013.

(ii) Repair the door as specified in paragraph (i)(1)(i)(A) or (i)(1)(i)(B) of this AD, as applicable.

(A) If repair of the inboard MLG door is possible: Repair and reinstall the door, in accordance with the Accomplishment Instructions of Bombardier Service Bulletin 670BA-32-042, Revision A, dated July 2, 2014, including Appendices A and B, both dated November 5, 2013.

(B) If it is not possible to repair the inboard MLG door in accordance with the Accomplishment Instructions of Bombardier Service Bulletin 670BA-32-042, Revision A, dated July 2, 2014, including Appendices A and B, both dated November 5, 2013: Repair using a method approved by the Manager, New York Aircraft Certification Office (ACO), ANE-170, FAA; or Transport Canada Civil Aviation (TCCA); or Bombardier, Inc.'s TCCA Design Approval Organization (DAO).

(iii) Replace the inboard MLG door, in accordance with the Accomplishment Instructions of Bombardier Service Bulletin 670BA-32-043, Revision A, dated November 13, 2014.

(2) If any damage is found on the forward member of the inboard MLG door during any inspection required by paragraph (g) of this AD: Before further flight, replace the inboard MLG door, in accordance with the Accomplishment Instructions of Bombardier Service Bulletin 670BA-32-043, Revision A, dated November 13, 2014.

(j) Terminating Action

Within 6,600 flight hours or 36 months after the effective date of this AD, whichever occurs first, except as provided by paragraph (l) of this AD: Replace the inboard MLG door, in accordance with the Accomplishment Instructions of Bombardier Service Bulletin 670BA-32-043, Revision A, dated November 13, 2014; except, where Bombardier Service Bulletin 670BA-32-043, Revision A, dated November 13, 2014, specifies to contact the manufacturer for certain instructions, this AD requires accomplishing those actions using a method approved by the Manager, New York ACO, ANE-170, FAA; or TCCA; or Bombardier, Inc.'s TCCA DAO.

(1) Doing the MLG door replacement required by paragraph (j) of this AD terminates the inspections required by paragraph (g) of this AD for that MLG door. (2) Doing the actions required by this paragraph does not terminate the actions required by AD 2010-23-19, Amendment 39-16508 (75 FR 68695, November 9, 2010).

(k) Optional Actions for Compliance with Paragraph (j) of this AD

Doing any of the actions specified in paragraph (k)(1), (k)(2), (k)(3), or (k)(4) of this AD is acceptable for compliance with the requirements of paragraph (j) of this AD.

(1) Replacement of the inboard MLG door, in accordance with the Accomplishment Instructions of Bombardier Service Bulletin 670BA-32-043, Revision A, dated November 13, 2014; and enlargement of the forward and aft hinge cutouts, in accordance with the procedures specified in Bombardier Modification Summary Package (MoDSum) IS670528200033, Revision A-2, dated October 11, 2005.

(2) Installation of an inboard MLG door assembly with a part number listed in the “Post SB Part Number” column of Section M, Relationship Chart, of Bombardier Service Bulletin 670BA-32-043, dated July 2, 2014, in accordance with the Accomplishment instructions of Bombardier Service Bulletin 670BA-32-043, dated July 2, 2014; or Bombardier Service Bulletin 670BA-32-043, Revision A dated November 13, 2014; or using a method approved by the Manager, New York ACO, ANE-170, FAA; or TCCA; or Bombardier, Inc.'s TCCA DAO.

(3) Doing the actions specified in “PART C—Installation of the Inboard MLG Door Part Number CC670-10520-15 and Increase of the Clearance Between the Left MLG Inboard-Door and the MLG Fairing” and “PART D—Installation of the Inboard MLG Door Part Number CC670-10520-16 and Increase of the Clearance Between the Right MLG Inboard-Door and the MLG Fairing” of the Accomplishment Instructions of Bombardier Service Bulletin 670BA-32-040, Revision E, dated November 13, 2014, including Appendix A, Revision A, dated July 2, 2014, and Appendix B, Revision B, dated July 2, 2014.

(4) Doing the actions specified in paragraphs (k)(4)(i) and (k)(4)(ii) of this AD.

(i) Doing the actions specified in “PART C—Installation of the Inboard MLG Door Part Number CC670-10520-15 and Increase of the Clearance Between the Left MLG Inboard-Door and the MLG Fairing” and “PART D—Installation of the Inboard MLG Door Part Number CC670-10520-16 and Increase of the Clearance Between the Right MLG Inboard-Door and the MLG Fairing” of the Accomplishment Instructions of Bombardier Service Bulletin 670BA-32-040, Revision D, dated July 2, 2014, including Appendix A, Revision A, dated July 2, 2014, and Appendix B, Revision B, dated July 2, 2014.

(ii) Enlargement of the forward and aft hinge cutouts specified in Bombardier Modsum IS670528200033, Revision A-2, dated October 11, 2005.

(l) Optional Delay of MLG Door Replacement

If an MLG door is removed, the replacement required by paragraph (j) of this AD can be delayed until the MLG door is reinstalled. When the removed MLG door is replaced, the actions required by paragraph (j) of this AD must be done at the time specified in paragraph (j) of this AD.

(m) Parts Installation Prohibition

Upon completion of the actions specified in paragraph (j) or (k) of this AD, no person may install an inboard MLG door assembly with a part number listed in the “Pre SB Part Number” column of Section M, Relationship Chart, of Bombardier Service Bulletin 670BA-32-043, dated July 2, 2014, on any airplane.

(n) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516 794 5531. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, New York ACO, ANE-170, FAA; or TCCA; or Bombardier, Inc.'s TCCA DAO. If approved by the DAO, the approval must include the DAO authorized signature.

(o) Special Flight Permits

Special flight permits, as described in Section 21.197 and Section 21.199 of the Federal Aviation Regulations (14 CFR 21.197 and 21.199), are not allowed.

(p) Related Information

(1) Refer to Mandatory Continuing Airworthiness Information (MCAI) Canadian Airworthiness Directive CF-2014-42, dated December 12, 2014, for related information. This MCAI may be found in the AD docket on the Internet at http://www.regulations.gov by searching for and locating Docket No. FAA-2015-1987.

(2) For service information identified in this AD, contact Bombardier, Inc., 400 Côte Vertu Road West, Dorval, Québec H4S 1Y9, Canada; telephone 514-855-5000; fax 514 855-7401; email thd.crj@aero.bombardier.com; Internet http://www.bombardier.com. You may view this service information at the FAA, Transport Airplane Directorate, 1601 Lind Avenue SW., Renton, WA. For information on the availability of this material at the FAA, call 425 227-1221.

Issued in Renton, Washington, on June 19, 2015.
Michael Kaszycki,
Acting Manager, Transport Airplane Directorate, Aircraft Certification Service.

[FR Doc. 2015-15856 Filed 6-29-15; 8:45 am]

BILLING CODE 4910-13-P